FEDERAL COMMUNICATIONS COMMISSION

[MB Docket No. 07-260; DA 14-1202]

Media Bureau Grants Extension of Time To File Application for Review

AGENCY: Federal Communications Commission.

ACTION: Notice.

SUMMARY: This document announces that the Media Bureau of the Federal Communications Commission granted the Motion for Extension of Time to File Application for Review filed by the Office of Communication of the United Church of Christ, et al. (Movants) in MB Docket 07-260.

DATES: Applications for Review are due October 8, 2014. Oppositions are due October 23, 2014. Replies are due November 3, 2014.

FOR FURTHER INFORMATION CONTACT: David Roberts, Video Division, Media Bureau, Federal Communications Commission, David.Roberts@fcc.gov, (202) 418-1618.

SUPPLEMENTARY INFORMATION: Movants filed a Motion for Extension of Time seeking an additional 30 days to file Applications for Review in WWOR-TV, et al., Memorandum Opinion and Order, MB Docket No. 07-260 (Aug. 8, 2014). For good cause shown, the Media Bureau, pursuant to delegated authority, granted the request. Applications for Review were originally due on September 8, 2014. Grant of the request makes them due on October 8, 2014. This proceeding is treated as “permit but disclose” for purposes of the Commission's ex parte rules. See generally 47 CFR 1.1200-1.1216. As a result of the permit-but-disclose status of this proceeding, ex parte presentations will be governed by the procedures set forth in § 1.1206 of the Commission's rules applicable to non-restricted proceedings.

All filings must reference MB Docket No. 07-260. In order to be considered part of the official record, filings must be made using: (1) The Commission's Electronic Comment Filing System (ECFS), or (2) by filing paper copies. Filings sent via email to the Commission that do not use the ECFS form described below will be considered informal and will not be part of the official record.

• Electronic Filers: Filings may be filed electronically using the Internet by accessing the ECFS: http://www.fcc.gov/cgb/ecfs/. Filers should follow the instructions provided on the Web site.

• For ECFS filers, in completing the transmittal screen, filers should include their full name, U.S. Postal service mailing address, and the applicable docket number: MB Docket No. 07-260. Parties may also submit an electronic filing by Internet email. To get filing instructions, filers should send an email to ecfs@fcc.gov, and include the following words in the body of the message: “get form”. A sample form and instructions will be sent in response.

• Paper Filers: Parties who choose to file by paper must file an original and four copies of each filing. Filings can be sent by hand or messenger delivery, by commercial overnight courier, or by first-class or overnight U.S. Postal Service mail (although we continue to experience delays in receiving U.S. Postal Service mail). All filings must be addressed to the Commission's Secretary, Marlene H. Dortch, Office of the Secretary, Federal Communications Commission.

• All hand-delivered or messenger-delivered paper filings for the Commission's Secretary must be delivered to FCC Headquarters at 445 12th St. SW., Room TW-A325, Washington, DC 20554. All hand deliveries must be held together with rubber bands or fasteners. Any envelopes must be disposed of before entering the building. The filing hours are 8:00 a.m. to 7:00 p.m.

• Commercial overnight mail (other than U.S. Postal Service Express Mail and Priority Mail) must be sent to 9300 East Hampton Drive, Capitol Heights, MD 20743.

• U.S. Postal Service first-class mail, Express Mail, and Priority Mail must be addressed to 445 12th Street SW., Washington, DC 20554.

One copy of each filing must be sent to David Roberts, Media Bureau, Video Division, Room 2-A728, 445 12th Street SW., Washington, DC 20554 or David.Roberts@fcc.gov.

Parties must also serve one copy with the Commission's copy contractor, Best Copy and Printing, Inc. (BCPI), Portals II, 445 12th Street SW., Room CY-B402, Washington, DC 20554, (202) 488-5300, or via email to fcc@bcpiweb.com.

Filings are available through ECFS and are also available for public inspection and copying during regular business hours at the FCC Reference Information Center, Portals II, 445 12th St. SW., Room CY-A257, Washington, DC 20554, telephone (202) 418-0270. They may also be purchased from the Commission's duplicating contractor, Best Copy and Printing, Inc., Portals II, 445 12th St. SW., Room CY-B402, Washington, DC 20554, telephone (202) 488-5300, facsimile (202) 488-5563, or via email at fcc@bcpiweb.com. Alternate formats of this Public Notice (computer diskette, large print, audio recording, or Braille) are available to persons with disabilities by contacting the Consumer and Governmental Affairs Bureau at (202) 418-0530 or (202) 418-0432 (TTY).

Federal Communications Commission.
Barbara Kreisman,
Chief, Video Division, Media Bureau.

[FR Doc. 2014-20938 Filed 9-3-14; 8:45 am]

BILLING CODE 6712-01-P